DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Socioeconomics of Ocean Guardian Schools—An Office of the National Marine Sanctuaries Educational Program.

OMB Control Number: 0648-xxxx.

Form Number(s): None.

Type of Request: Regular (request for a new information collection).

Number of Respondents: 2,583.

Average Hours Per Response: 20 minutes.

Burden Hours: 861.

Needs and Uses: This request is for a new information collection to provide benefit throughout the sanctuary system and specifically our sites that work with Ocean Guardian Schools. The National Ocean Service (NOS) proposes to collect information from parents and teachers about the attitudes and preferences and economic value they receive from being involved with an Ocean Guardian school.

Up-to-date socioeconomic data is needed to support the further development and improvement of Ocean Guardian Schools. These schools receive funding from the NOAA Office of Education and the Office of National Marine Sanctuaries. Schools may apply for funding up to five years. A number of schools have continued their Ocean Guardian School projects after the five years. From 2010-2015, the total funding received by 71 schools was $544,315.

Although the costs and sources of funding are known, there is limited information known about the economic value participants place on this program and the economic value created by these schools and their many activities. Currently, there is no information available that provides estimates of the value of education programs like Ocean Guardian to parents and teachers. Ocean Guardian Schools receive funding to develop projects to help protect the ocean in the future and promote ocean conservation and stewardship. Projects include recycling, beach clean-up days, installing rain barrels, installing wildlife structures, composting, and energy reduction.

The types of data targeted for this collection are: attitudes and preferences towards the projects and student involvement, importance of/satisfaction with the program and attributes of the program, extent of reach (are parents aware of their student's involvement and are they too learning about ocean stewardship), level of teacher, student, parent and administrative involvement, and teachers' and parents' willingness to pay. The primary focus for the survey will be to gather data on parents' and teachers' willingness to pay for this program. Specifically, researchers will collect data to determine the economic value teachers, administrators and parents place on this program. The information collected will help to inform Ocean Guardian Schools about areas for improvement and the value that their programs create for the community.

Affected Public: Individuals or households.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: February 9, 2016.
Sarah Brabson,
NOAA PRA Clearance Officer.

[FR Doc. 2016-02904 Filed 2-11-16; 8:45 am]

BILLING CODE 3510-NK-P